NUCLEAR REGULATORY COMMISSION

[NRC-2017-0041]

Preparation of Environmental Reports for Nuclear Power Stations

AGENCY: Nuclear Regulatory Commission.

ACTION: Draft regulatory guide; extension of comment period.

SUMMARY: On February 13, 2017, the U.S. Nuclear Regulatory Commission (NRC) issued for public comment draft regulatory guide (DG) DG-4026, “Preparation of Environmental Reports for Nuclear Power Stations,” for a 60-day public comment period. However, the NRC staff is extending the public comment period from April 14, 2017 to May 31, 2017, based upon a letter from the Nuclear Energy Institute (NEI) that requested additional time in order to perform a comprehensive review of the DG and to consolidate industry comments. This DG provides guidance to applicants for format and content of environmental reports (ERs) that are submitted as part of an applicant for a permit, license, or other authorization to site, construct, and/or operate a new nuclear power plant.

DATES: The due date of comments requested in the document published on February 13, 2017 (82 FR 10502), is extended. Comments should be filed no later than May 31, 2017. Comments received after this date will be considered, if it is practical to do so, but the NRC is able to ensure consideration only for comments received on or before this date. Although a time limit is given, comments and suggestions in connection with items for inclusion in guides currently being developed or improvements in all published guides are encouraged at any time.

ADDRESSES: You may submit comments by any of the following methods (unless this document describes a different method for submitting comments on a specified subject):

• Federal Rulemaking Web site: Go to http://www.regulations.gov and search for Docket ID NRC-2017-0041. Address questions about NRC dockets to Carol Gallagher; telephone: 301-415-3463; email: Carol.Gallagher@nrc.gov. For technical questions, contact the individuals listed in the FOR FURTHER INFORMATION CONTACT section of this document.

• Mail comments to: Cindy Bladey, Office of Administration, Mail Stop: OWFN-12H-08, U.S. Nuclear Regulatory Commission, Washington, DC 20555-0001.

For additional direction on accessing information and submitting comments, see “Obtaining Information and Submitting Comments” in the SUPPLEMENTARY INFORMATION section of this document.

FOR FURTHER INFORMATION CONTACT: Jennifer Davis, Office of New Reactors, telephone: 301-415-3835, email: Jennifer.Davis@nrc.gov; and Edward O'Donnell, Office of Nuclear Regulatory Research, telephone: 301-415-3317 email: Edward.ODonnell@nrc.gov. Both are staff members of the U.S. Nuclear Regulatory Commission, Washington, DC 20555-0001.

SUPPLEMENTARY INFORMATION:

I. Obtaining Information and Submitting Comments

A. Obtaining Information

Please refer to Docket ID NRC-2017-0041 when contacting the NRC about the availability of information regarding this action. You may obtain publically-available information related to this action, by any of the following methods:

• Federal Rulemaking Web site: Go to http://www.regulations.gov and search for Docket ID NRC-2017-0041.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The DG is electronically available in ADAMS under Accession No. ML16124A200.

• NRC's PDR: You may examine and purchase copies of public documents at the NRC's PDR, Room O1-F21, One White Flint North, 11555 Rockville Pike, Rockville, Maryland 20852.

B. Submitting Comments

Please include Docket ID NRC-2017-0041 in your comment submission.

The NRC cautions you not to include identifying or contact information that you do not want to be publicly disclosed in your comment submission. The NRC posts all comment submissions at http://www.regulations.gov as well as enters the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

On February 13, 2017, the U.S. Nuclear Regulatory Commission (NRC) solicited comments on DG-4026. The public comment period was originally scheduled to close on April 14, 2017; however, due to the NEI's request, the NRC has decided to extend the public comment period to allow more time for members of the public to develop and submit their comments.

Dated at Rockville, Maryland, this 23rd day of March, 2017.
For the Nuclear Regulatory Commission.
Thomas H. Boyce,
Chief, Regulatory Guidance and Generic Issues Branch, Division of Engineering, Office of Nuclear Regulatory Research.

[FR Doc. 2017-06128 Filed 3-28-17; 8:45 am]

BILLING CODE 7590-01-P